DEPARTMENT OF TRANSPORTATION

Federal Aviation Administration

14 CFR Parts 121 and 125

[Docket Nos. 121-271, 121-278, 125-32 & 125-34]

RIN 2120-AG-88

Corrections to Flight Data Recorder Specifications

AGENCY: Federal Aviation Administration (FAA), DOT.

ACTION: Final rule; correction.

SUMMARY: This action corrects errors introduced into the flight data recorder specifications in two final rules. The FAA intended to add certain information by footnote in the appendices that contain the flight recorder specification charts, but inadvertently caused material to be deleted. This correction reinstates that material.

DATES: Effective December 27, 2000.

FOR FURTHER INFORMATION CONTACT: Karen Petronis, Senior Attorney for Regulations, AGC-200, Office of the Chief Counsel, Federal Aviation Administration, 800 Independence Avenue, SW., Washington, DC 20591; telephone 202-267-3073.

SUPPLEMENTARY INFORMATION: The FAA published final rule amending the flight data recorder specifications for certain Airbus airplanes in the Federal Register on August 24, 1999 [64 FR 46117]. The intent of that final rule was to establish different criteria for certain flight data recorder parameters that are recorded by Airbus airplanes. The changes were introduced as footnotes. The footnote numbers were to appear with the name of the parameter in the “Parameters” columns of 14 CFR part 121 appendix M and part 125 appendix E.

Instead of inserting the footnotes numbers in the column and adding the noted information at the bottom of the chart, the amendatory language that was used resulted in information being deleted from the five remaining columns of the chart for each of the parameters affected by the rule. A similar attempted amendment in August 2000 [65 FR 51745, August 24, 2000] caused the same result.

Accordingly, the FAA is republishing the affected parameter specifications to reinstate them in the appendix M chart. The identical corrections are being made to Part 125 Appendix E, which contains the identical information. The FAA never intended to change any of the information that was effective at the time of the August 1999 final rule, and no intent may be implied by the absence of this information from the printed 2000 CFR. The FAA has no information to suggest that any operator subject to the affected regulations has taken any action based on the unintended deletion of the information. The required specifications are well established and not easily changed in operational flight data recorder system equipment.

Since no rule change was ever intended, there is no economic impact that is attributable to this correction.

Any operator that finds itself adversely affected by reliance on any omission from the 2000 CFR is advised to contract the FAA immediately for resolution of any problems.

Accordingly, the Federal Aviation Administration amends Title 14 of the Code of Federal Regulations parts 121 and 125 as follows:

Part 121 [Corrected]

Appendix M [Corrected]

1. Correct Appendix M to part 121, by revising item numbers, 1, 7, 9, 12b, 13b, 14a, 15, 16, 17, 19, 20, 21, 23, 24, 37, 42 and 57 to read as follows (Note: The footnote text remains unchanged):

Parameters | Range | Accuracy (sensor input) | second per sampling interval | Resolution | Remarks
1. Time or Relative Times Counts.¹ | 24 Hrs, 0 to 4095 | +/−0.125% Per Hour | 4 | 1 sec | UTC time preferred when available. Count increments each 4 second of system operation.
7. Roll attitude ² | +/−180° | +/−2° | 1 or 0.5 for airplanes operated under § 121.344(f) | 0.5 | A sampling rate of 0.5 is recommended.
9. Thrust/Power on Each Engine—primary flight crew reference.¹⁴ | Full Range Forward | +/−2% | 1 (per engine) | 0.2% of full range | Sufficient parameters (e.g. EPR, NI or Torque, NP) as appropriate to the particular engine be recorded to determine power in forward and reverse thrust, including potential over-speed condition.
12b. Pitch Control(s) position (fly-by-wire systems).³ | Full Range | +/−2° Unless Higher Accuracy Uniquely Required. | 0.5 or 0.25 for airplanes operated under § 121.344(f). | 0.2% of full range |
13b. Lateral Control position(s) (fly-by-wire).⁴ | Full Range | +/−2° Unless Higher Accuracy Uniquely Required | 0.5 or 0.25 for airplanes operated under § 121.344(f) | 0.2% of full range |
14a. Yaw Control position(s) (non-fly-by-wire).⁵ | Full Range | +/−2° Unless Higher Accuracy Uniquely Required | 0.5 | 0.2% of full range | For airplanes that have a flight control break away capability that allows either pilot to operate the controls independently, record both control inputs. The control inputs may be sampled alternately once per second to produce the sampling interval of 0.5.
15. Pitch Control Surface(s) Position.⁶ | Full Range | +/−° Unless Higher Accuracy Uniquely Required | 0.5 or 0.25 for airplanes operated under § 121.344(f) | 0.2% of full range | For airplanes fitted with multiple or split surfaces, a suitable combination of inputs is acceptable in lieu or recording each surface separately. The control surfaces may be sampled alternately to produce the sampling interval of 0.5 or 0.25.
16. Lateral Control Surface(s) Position.⁷ | Full Range | +/−2° Unless Higher Accuracy Uniquely Required | 0.5 or 0.25 for airplanes operated under § 121.344(f) | 0.2% of full range | A suitable combination of surface position sensors is acceptable in lieu of recording each surface separately. The control surfaces may be sampled alternately to produce the sampling interval of 0.5 or 0.25.
17. Yaw Control Surface(s) Position.⁸ | Full Range | +/−2° Unless Higher Accuracy Uniquely Required | 0.5 | 0.2% of full range | For airplanes with multiple or split surfaces, a suitable combination of surface position sensors is acceptable in lieu of recording each surface separately. The control surfaces may be sampled alternately to produce the sapling interval of 0.5.
19. Pitch Trim Surface Position.⁹ | Full Range | +/−3° Unless Higher Accuracy Uniquely Required | 1 | 0.3% of full range |
20. Trailing Edge Flap or Cockpit Control Selection.¹⁰ | Full Range or Each Position (discrete) | +/−3° or as Pilot's indicator | 2 | 0.5% of full range | Flap position and cockpit control may each be sampled at 4 second intervals, to give a data point every 2 seconds.
21. Leading Edge Flap or Cockpit Control Selection.¹¹ | Full Range or Each Discrete Position | +/−3° or as Pilot's indicator and sufficient to determine each discrete position | 2 | 0.5% of full range | Left and right sides, or flap position and cockpit control may each be sampled at 4 second intervals, so as to give a data point every 2 seconds.
23. Ground Spoiler Position or Speed Brake Selection.¹² | Full Range or Each Position (discrete) | +/−2° Unless Higher Accuracy Uniquely Required | 1 or 0.5 for airplanes operated under § 121.344(f) | 0.2% of full range |
24. Outside Air Temperature or Total Air Temperature.¹³ | −50°C to +90°C | +/−2°C | 2 | 0.3°C |
37. Drift Angle.¹⁵ | As installed | As installed | 4 | 0.1° |
42. Throttle/power Leverl position.¹⁶ | Full Range | +/−2% | 1 for each lever | 2% of full range | For airplanes with non-mechanically linked cockpit engine controls.
57. Thrust command.¹⁷ | Full Range | +/−2% | 2 | 2% of full range

Part 121 [Corrected]

Appendix E [Corrected]

2. Correct appendix E to part 125, by revising item numbers 1, 7, 9, 12b, 13b, 14a, 15, 16, 17, 19, 20, 21, 23, 24, 37, 42 and 57 to read as follows (Note: The footnote text remains unchanged):

Parameters | Range | Accuracy (sensor input) | Seconds per sampling interval | Resolution | Remarks
1. Time or Relative Times Counts.¹ | 24 Hrs, 0 to 4095 | +/−0.125% Per Hour | 4 | 1 sec | UTC time preferred when available. Count increments each 4 seconds of system operation.
7. Roll Attitude ² | +/−180° | +/−2° | 1 or 0.5 for airplanes operated under § 121.344(f) | 0.5° | A sampling rate of 0.5 is recommended.
9. Thrust/Power on Each Engine-primary flight crew reference.\14\ | Full Range Forward. | +/−2% | 1 (per engine) | 0.2% of full range | Sufficient parameters (e.g. EPR, N1 or Torque, NP) as appropriate to the particular engine be recorded to determine power in forward and reverse thrust, including potential over-speed condition.
12b. Pitch Control(s) position (fly-by-wire systems).³ | Full Range | +/−2° Unless Higher Accuracy Uniquely Required | 0.5 or 0.25 for airplanes operated under § 121.344(f) | 0.2% of full range |
13b. Lateral Control position(s) (fly-by-wire).⁴ | Full Range | +/−2° Unless Higher Accuracy Uniquely Required | 0.5 or 0.25 for airplanes operated under § 121.344(f) | 0.2% of full range |
14a. Yaw Control position(s) (non-fly-by-wire).⁵ | Full Range | +/−2° Unless Higher Accuracy Uniquely Required | 0.5 | 0.2% of full range | For airplanes that have a flight control break away capability that allows either pilot to operate the controls independently, record both control inputs. The control inputs may be sampled alternately once per second to produce the sampling interval of 0.5.
15. Pitch Control Surface(s) Position.⁶ | Full Range | +/−2° Unless Higher Accuracy Uniquely Required | 0.5 or 0.25 for airplanes operated under § 121.344(f) | 0.2% of full range | For airplanes fitted with multiple or split surfaces, a suitable combination of inputs is acceptable in lieu or recording each surface separately. The control surfaces may be sampled alternately to produce the sampling interval of 0.5 or 0.25.
16. Lateral Control Surface(s) Position.⁷ | Full Range | +/−2° Unless Higher Accuracy Uniquely Required | 0.5 or 0.25 for airplanes operated under § 121.344(f) | 0.2% of full range | A suitable combination of surface position sensors is acceptable in lieu of recording each surface separately. The control surfaces may be sampled alternately to produce the sampling interval of 0.5 or 0.25.
17. Yaw Control Surface(s) Position.⁸ | Full Range | +/−2° Unless Higher Accuracy Uniquely Required | 0.5 | 0.2% of full range | For airplanes with multiple or split surfaces, a suitable combination of surface position sensors is acceptable in lieu of recording each surface separately. The control surfaces may be sampled alternately to produce the sapling interval of 0.5.
19. Pitch Trim Surface Position.⁹ | Full Range | +/−3° Unless Higher Accuracy Uniquely Required | 1 | 0.3% of full range |
20. Trailing Edge Flap or Cockpit Control Selection.¹⁰ | Full Range or Each Position (discrete) | +/−3° or as Pilot's indicator | 2 | 0.5% of full range | Flap position and cockpit control may each be sampled at 4 second intervals, to give a data point every 2 seconds.
21. Leading Edge Flap or Cockpit Control Selection.¹¹ | Full Range or Each Discrete Position | +/−3° or as Pilot's indicator and sufficient to determine each discrete position | 2 | 0.5% of full range | Left and right sides, or flap position and cockpit control may each be sampled at 4 second intervals, so as to give a data point every 2 seconds.
23. Ground Spoiler Position or Speed Brake Selection.¹² | Full Range or Each Position (discrete) | +/−2° Unless Higher Accuracy Uniquely Required | 1 or 0.5 for airplanes operated under § 121.344(f) | 0.2% of full range |
24. Outside Air Temperature or Total Air Temperature.¹³ | −50°C to +90°C | +/−2°C | 2 | 0.3°C. |
37. Drift Angle.¹⁵ | As installed | As installed | 4 | 0.1%. |
42. Throttle/power lever position.¹⁶ | Full Range | +/−2% | 1 for each lever | 2% of full range | For airplanes with non-mechanically linked cockpit engine controls.
57. Thrust command.¹⁷ | Full Range | +/−2% | 2 | 2% of full range |

Issued in Washington, DC, on December 18, 2000.
Donald P. Byrne,
Assistant Chief Counsel for Regulations.

[FR Doc. 00-32730 Filed 12-26-00; 8:45 am]

BILLING CODE 4910-13-M